NUCLEAR REGULATORY COMMISSION

[NRC-2009-0214]

Notice of Availability of Final Interim Staff Guidance on Streamlined Review Process for License Renewal for Research Reactors and Response to Comments

AGENCY: Nuclear Regulatory Commission.

ACTION: Notice of Availability of Final Interim Staff Guidance on Streamlined Review Process for License Renewal for Research Reactors and Response to Comments

FOR FURTHER INFORMATION CONTACT: Alexander Adams Jr., Division of Policy and Rulemaking, Office of Nuclear Reactor Regulation, U.S. Nuclear Regulatory Commission, Washington, DC 20555-0001, telephone 301-415-1127, e-mail alexander.adams@nrc.gov; or Marcus Voth, Division of Policy and Rulemaking, Office of Nuclear Reactor Regulation, U.S. Nuclear Regulatory Commission, Washington, DC 20555-0001, telephone 301-415-1210, e-mail marcus.voth@nrc.gov.

ADDRESSES: Federal e-Rulemaking Portal: Documents related to this notice, including public comments, are accessible at http://www.regulations.gov, by searching on Docket ID: NRC-2009-0214.

NRC's Public Document Room (PDR): The public may examine and have copied for a fee, publicly available documents at the NRC's PDR, Public File Area O-1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The document, “Interim Staff Guidance on Streamlined Review Process for License Renewal for Research Reactors” is available electronically under ADAMS Accession Number ML092240244.

SUPPLEMENTARY INFORMATION: On June 16, 2009 (74 FR 28,583), the NRC published a notice of availability and opportunity for comment on the draft Interim Staff Guidance Regarding the Review of Research and Test Reactor License Renewal Applications. When the comment period ended on July 16, 2009, one comment was received. The commenter cited practices of another federal agency that allowed for informal transmittal of information which, if applied to the license renewal process for research reactors, could result in improvements in efficiency. The staff considered the comment and notes that whenever possible less formal means are used. However, in license renewal matters most communication is a matter of official record. Under NRC regulations regarding internal rules and procedures an official record must be maintained.

Because there are no other comments on the draft guidance that was published, no major changes were initiated. Minor editorial corrections and enhancements were made to the document and it has been re-published and made available to the public by the means described above.

Dated at Rockville, Maryland, this 28th day of October 2009.
For the Nuclear Regulatory Commission.
Kathryn M. Brock,
Chief, Research and Test Reactor Branch A, Division of Policy and Rulemaking, Office of Nuclear Reactor Regulation.

[FR Doc. E9-26535 Filed 11-3-09; 8:45 am]

BILLING CODE 7590-01-P